DEPARTMENT OF TRANSPORTATION

Federal Aviation Administration

[Docket No. FAA-2022-0641]

Agency Information Collection Activities: Requests for Comments; Clearance of a Renewed Approval of Information Collection: Employee Assault Prevention and Response Plan

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on July 1, 2022.

DATES: Written comments should be submitted by March 6, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sandra L. Ray by email at: Sandra.ray@faa.gov; phone: 412-329-3088.

SUPPLEMENTARY INFORMATION: The collection involves submission of Employee Assault Prevention and Response Plans (EAPRP) for customer service agents of certificate holders conducting operations under title 14 of the Code of Federal Regulations (CFR) part 121. The certificate holders will submit the information to be collected to the FAA for review and acceptance as required by section 551 of Public Law 115-254, the FAA Reauthorization Act of 2018.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0787.

Title: Employee Assault Prevention and Response Plan.

Form Numbers: There are no forms associated with this collection.

Type of Review: Renewal of an information collection.

Background: The Federal Register Notice with a 60-day comment period soliciting comments on the following collection of information was published on July 1, 2022 (87 FR 39589). On October 5, 2018, Congress enacted Public Law 115-254, the FAA Reauthorization Act of 2018 (“the Act”). Section 551 of the Act required air carriers operating under 14 CFR part 121 to submit to the FAA for review and acceptance an Employee Assault Prevention and Response Plan (EAPRP) related to the customer service agents of the air carrier that is developed in consultation with the labor union representing such agents. Section 551(b) of the Act contains the required contents of the EAPRP, including reporting protocols for air carrier customer service agents who have been the victim of a verbal or physical assault.

Respondents: Nine Part 121 Air Carriers.

Frequency: Once for submission or revision of the plan.

Estimated Average Burden per Response: 22 hours.

Estimated Total Annual Burden: $5,594.00.

Issued in Washington, DC, on January 30, 2023.
Sandra L. Ray,
Aviation Safety Inspector, AFS-260.

[FR Doc. 2023-02210 Filed 2-2-23; 8:45 am]

BILLING CODE 4910-13-P